INTERNATIONAL TRADE COMMISSION

[USITC SE-15-018]

Government In the Sunshine Act Meeting Notice

AGENCY HOLDING THE MEETING: United States International Trade Commission.

TIME AND DATE: June 16, 2015 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-521 and 731-TA-1252-1255 and 1257 (Final) (Certain Steel Nails from Korea, Malaysia, Oman, Taiwan, and Vietnam). The Commission is currently scheduled to complete and file its determinations and views of the Commission on June 29, 2015.

5. Outstanding action jackets: None

In accordance with Commission policy, subject matter listed above, not disposed of at the scheduled meeting, may be carried over to the agenda of the following meeting.

By order of the Commission.
Issued: June 4, 2015.
William R. Bishop,
Supervisory Hearings and Information Officer.

[FR Doc. 2015-14304 Filed 6-8-15; 4:15 pm]

BILLING CODE 7020-02-P